DEPARTMENT OF COMMERCE

Foreign-Trade Zones Board

[B-75-2012]

Foreign-Trade Zone 35—Philadelphia, PA; Application for Reorganization and Expansion Under Alternative Site Framework

An application has been submitted to the Foreign-Trade Zones (FTZ) Board (the Board) by the Philadelphia Regional Port Authority, grantee of FTZ 35, requesting authority to reorganize the zone under the alternative site framework (ASF) adopted by the Board (15 CFR Sec. 400.2(c)). The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally filed on October 19, 2012.

FTZ 35 was approved by the Board on March 24, 1978 (Board Order 128, 43 FR l453l, 4/8/1978) and expanded on August 21, 1980 (Board Order 162, 45 FR 58388, 9/3/1980), December 29, 1993 (Board Order 678, 59 FR 1372, 1/10/1994), September 25, 2001 (Board Order 1189, 66 FR 52742, 10/17/2001), and June 27, 2002 (Board Order 1236, 67 FR 45456, 7/9/2002).

The current zone includes the following sites: Site 1 (2.4 acres)—2994-2996 Samuel Drive, Bensalem, Bucks County; Site 2 (90 acres)—Pier 98 South Annex, Columbus Blvd. at Oregon Ave., Philadelphia, Philadelphia County; Site 3 (3 acres)—Pier 38 and Pier 40, 1 Brown Street, Philadelphia, Philadelphia County; Site 4 (35 acres)—Penn Terminals Complex, 1 Saville Avenue, Eddystone, Delaware County; Site 6 (38 acres)—Publicker Site, 2937 Christopher Columbus Blvd., Philadelphia, Philadelphia County; Site 7 (2 acres)—American Foodservice Corporation, 400 Drew Court, King of Prussia, Montgomery County; Site 8 (35 acres)—Philadelphia International Airport, Philadelphia, Philadelphia County; Site 10 (4.8 acres)—Philadelphia Naval Complex, Building 694, 1701 Langley Avenue, Philadelphia, Philadelphia County; Site 11 (37.52 acres)—Urban Outfitters, Inc., 755 Brackbill Road, Gap, Lancaster County (approved on a temporary basis until 12/31/2012); and, Site 12 (80 acres)—Kinder Morgan Bulk Terminals, Inc., 1 Sinter Road, Fairless Hills, Bucks County (approved on a temporary basis until 11/30/2013).

The grantee's proposed service area under the ASF would be Philadelphia, Delaware, Bucks, Montgomery, Chester, Lancaster and Berks Counties, as described in the application. If approved, the grantee would be able to serve sites throughout the service area based on companies' needs for FTZ designation. The proposed service area is within and adjacent to the Philadelphia Customs and Border Protection port of entry.

The applicant is requesting authority to reorganize its existing zone project to include existing Sites 1-6, 10 and 12 as “magnet” sites and existing Sites 7, 8 and 11 as usage-driven sites. The applicant is also requesting approval of the following usage-driven sites: Proposed Site 13 (2.462 acres)—Delaware River Stevedores, Inc., 3451 North Delaware Ave., Philadelphia, Philadelphia County; Proposed Site 14 (10.12 acres)—David's Bridal, Inc., 44 North Lane, Conshohocken, Montgomery County; and, Proposed Site 15 (26.5 acres)—David's Bridal, Inc., 100 Crossing Drive, Suite B, Bristol, Bucks County. The application would have no impact on FTZ 35's previously authorized subzones.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is December 24, 2012. Rebuttal comments in response to material submitted during the foregoing period may be submitted during the subsequent 15-day period to January 7, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Elizabeth Whiteman at Elizabeth.Whiteman@trade.gov or (202) 482-0473.

Dated: October 9, 2012.
Elizabeth Whiteman,
Acting Executive Secretary.

[FR Doc. 2012-26216 Filed 10-23-12; 8:45 am]

BILLING CODE P